DEPARTMENT OF ENERGY

Federal Energy Regulatory Commission

[Docket No. IC19-6-000]

Commission Information Collection Activities (FERC-914); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-914 (Cogeneration and Small Power Production—Tariff Filings) and submitting the information collection to the Office of Management and Budget (OMB) for review. Any interested person may file comments directly with OMB and should address a copy of those comments to the Commission as explained below. On January 31, 2019, the Commission published a Notice in the Federal Register in Docket No. IC19-6-000 requesting public comments. The Commission received no public comments and is noting that in the related submittal to OMB.

DATES: Comments on the collection of information are due July 29, 2019.

ADDRESSES: Comments filed with OMB, identified by OMB Control No. 1902-0231, should be sent via email to the Office of Information and Regulatory Affairs: oira_submission@omb.gov. Attention: Federal Energy Regulatory Commission Desk Officer.

A copy of the comments should also be sent to the Commission, in Docket No. IC19-6-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-914, Cogeneration and Small Power Production—Tariff Filings.

OMB Control No.: 1902-0231.

Type of Request: Three-year extension of the FERC-914 information collection requirements with no changes to the current reporting requirements.

Abstract: Section 205(c) of the Federal Power Act (FPA) and 18 CFR 292 require that every public utility have all of its jurisdictional rates and tariffs on file with the Commission and make them available for public inspection, within such time and in such form as the Commission may designate. Section 205(d) of the FPA requires that every public utility must provide notice to the Commission and the public of any changes to its jurisdictional rates and tariffs, file such changes with the Commission, and make them available for public inspection, in such manner as directed by the Commission. In addition, FPA section 206 requires the Commission, upon complaint or its own motion, to modify existing rates or services that are found to be unjust, unreasonable, unduly discriminatory or preferential. FPA section 207 requires the Commission upon complaint by a state commission and a finding of insufficient interstate service, to order the rendering of adequate interstate service by public utilities, the rates for which would be filed in accordance with FPA sections 205 and 206.

In Order Nos. 671 and 671-A,¹ the Commission revised its regulations that govern qualifying small power production and cogeneration facilities. Among other things, the Commission eliminated certain exemptions from rate regulation that were previously available to qualifying facilities (QFs). New qualifying facilities may need to make tariff filings if they do not meet the exemption requirements.

¹ Revised Regulations Governing Small Power Production and Cogeneration Facilities, Order No. 671, 71 FR 7852 (2/15/2006), FERC Stats. & Regs. ¶ 31,203 (2006); and Revised Regulations Governing Small Power Production and Cogeneration Facilities, Order 671-A, 71 FR 30585 (5/30/2006), in Docket No. RM05-36.

FERC implemented the Congressional mandate of the Energy Policy Act of 2005 (EPAct 2005) to establish criteria for new qualifying cogeneration facilities by: (1) Amending the exemptions available to qualifying facilities from the FPA and from Public Utility Holding Company Act (PUHCA) [resulting in the burden imposed by FERC-914, the subject of this notice]; (2) ensuring that these facilities are using their thermal output in a productive and beneficial manner; that the electrical, thermal, chemical and mechanical output of new qualifying cogeneration facilities is used fundamentally for commercial, residential or industrial purposes; and there is continuing progress in the development of efficient electric energy generating technology; (3) amending the FERC Form 556 ² to reflect the criteria for new qualifying cogeneration facilities; and (4) eliminating ownership limitations for qualifying cogeneration and small power production facilities. The Commission satisfied the statutory mandate and its continuing obligation to review its policies encouraging cogeneration and small power production, energy conservation, efficient use of facilities and resources by electric utilities, and equitable rates for energy customers.

² The FERC Form 556 (Certification of Qualifying Facility (QF) Status for a Small Power Production or Cogeneration Facility) is cleared separately as OMB Control No. 1902-0075 and is not a subject of this notice.

Type of Respondents: New qualifying facilities and small power producers that do not meet Commission exemption criteria

Estimate of Annual Burden: ³ The Commission estimates the annual public reporting burden and cost ⁴ for the information collection as:

³ Burden is the total time, effort, or financial resources expended by persons to generate, maintain, retain, or disclose or provide information to or for a Federal agency. For further explanation of what is included in the information collection burden, refer to 5 Code of Federal Regulations 1320.3.

⁴ FERC staff estimates that industry costs for salary plus benefits are similar to Commission costs. The cost figure is the FY2018 FERC average annual salary plus benefits ($164,820/year or $79/hour).

FERC-914—Cogeneration and Small Power Production—Tariff Filings
| Number of respondents | Annual number of responses per respondent | Total number of responses | Average burden hours & cost ($) per response | Total annual burden hours & total annual cost ($) | Cost per respondent ($)
| (1) | (2) | (1) * (2) = (3) | (4) | (3) * (4) = (5) | (5) ÷ (1)
FPA Section 205 Filings | 35 | 1 | 35 | 183 hrs.; $14,457 | 6,405 hrs.; $505,995 | $14,457
Electric Quarterly Reports (initial) | 0 | 0 | 0 | 230 hrs.; $18,170 | 0 hrs.; $0 | 0
Electric Quarterly Reports (later) | 35 | 4 | 140 | 6 hrs.; $474 | 840 hrs.; $66,360 | 1,896
Change of Status | 10 | 1 | 10 | 3 hrs.; $237 | 30 hrs.; $2,370 | 237
Total |  |  | 185 |  | 7,275 hrs.; $574,725 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 13, 2019.
Kimberly D. Bose,
Secretary.

[FR Doc. 2019-13822 Filed 6-27-19; 8:45 am]

BILLING CODE 6717-01-P